DEPARTMENT OF HEALTH AND HUMAN SERVICES

Food and Drug Administration

[Docket No. 1982F-0075]

JSR America, Inc.; Withdrawal of Food Additive Petition

AGENCY: Food and Drug Administration, HHS.

ACTION: Notice.

SUMMARY: The Food and Drug Administration (FDA) is announcing the withdrawal, without prejudice to a future filing, of a food additive petition (FAP 2B3620) proposing that the food additive regulations be amended to provide for the safe use of 1,2-polybutadiene as a food-packaging film that will contact food.

FOR FURTHER INFORMATION CONTACT: Elizabeth R. Sanchez, Center for Food Safety and Applied Nutrition (HFS-275), Food and Drug Administration, 5100 Paint Branch Pkwy., College Park, MD 20740-3858, 202-418-3086.

SUPPLEMENTARY INFORMATION: In a notice published in the Federal Register of April 23, 1982 (47 FR 17672), FDA announced that a food additive petition (FAP 2B3620) had been filed by JSR America, Inc., 350 Fifth Ave., New York, NY 10001 (now 312 Elm St., suite 1585, Cincinnati, OH 45202). The petition proposed to amend the food additive regulations to provide for the safe use of 1,2-polybutadiene as a food-packaging film that will contact food. JSR America, Inc. has now withdrawn the petition without prejudice to a future filing (21 CFR 171.7).

Dated: December 24, 2003.
Laura M. Tarantino,
Acting Director, Office of Food Additive Safety, Center for Food Safety and Applied Nutrition.

[FR Doc. 04-2083 Filed 2-2-04; 8:45 am]

BILLING CODE 4160-01-S